NATIONAL CREDIT UNION ADMINISTRATION

Sunshine Act: Notice of Agency Meeting

TIME AND DATE: 10:00 a.m., Thursday, October 24, 2019.

PLACE: Board Room, 7th Floor, Room 7047, 1775 Duke Street (All visitors must use Diagonal Road Entrance), Alexandria, VA 22314-3428.

STATUS: Open.

MATTERS TO BE CONSIDERED:

1. NCUA Rules and Regulations, Public Unit and Nonmember Shares.

2. NCUA's Rules and Regulations, Chartering and Field of Membership.

3. Board Briefing, Cyber Security.

RECESS: 11:00 a.m.

TIME AND DATE: 11:15 a.m., Thursday, October 24, 2019.

PLACE: Board Room, 7th Floor, Room 7047, 1775 Duke Street, Alexandria, VA 22314-3428.

STATUS: Closed.

MATTERS TO BE CONSIDERED:

1. Supervisory Action. Closed pursuant to Exemption (8).

2. Board Appeal. Closed pursuant to Exemption (8).

FOR FURTHER INFORMATION CONTACT: Gerard Poliquin, Secretary of the Board, Telephone: 703-518-6304.

Authority: 5 U.S.C. 552b.

Gerard Poliquin,
Secretary of the Board.

[FR Doc. 2019-23008 Filed 10-17-19; 4:15 pm]

BILLING CODE 7535-01-P